DEPARTMENT OF COMMERCE

Foreign-Trade Zones Board

Order No. 1415

Termination Of Foreign-Trade Subzone 74A, Sparrows Point, Maryland

Pursuant to the authority granted in the Foreign-Trade Zones Act of June 18, 1934, as amended (19 U.S.C. 81a-81u), and the Foreign-Trade Zones Board Regulations (15 CFR Part 400), the Foreign-Trade Zones Board has adopted the following order:

Whereas, on March 14, 1985, the Foreign-Trade Zones Board issued a grant of authority to the City of Baltimore (the City), authorizing the establishment of Foreign-Trade Subzone 74A at the Baltimore Marine Industries Inc. facility, Sparrows Point, Maryland (Board Order 290, 50 FR 13057, 4/2/85);

Whereas, the City advised the Board on December 13, 2004 (FTZ Docket 2-2005), that zone procedures were no longer needed at the facility and requested voluntary termination of Subzone 74A;

Whereas, the request has been reviewed by the FTZ Staff and Customs officials, and approval has been recommended;

Now, therefore, the Foreign-Trade Zones Board terminates the subzone status of Subzone 74A, effective this date.

Signed at Washington, DC, this 5th day of October 2005.

Joseph A. Spetrini,
Acting Assistant Secretary of Commerce for Import Administration, Alternate Chairman, Foreign-Trade Zones Board.
Attest:
Dennis Puccinelli,
Executive Secretary.

[FR Doc. 05-20932 Filed 10-18-05; 8:45 am]

BILLING CODE: 3510-DS-S